DEPARTMENT OF HEALTH AND HUMAN SERVICES

[Document Identifier: OS-0990-New; 60-day Notice]

Agency Information Collection Request. 60-Day Public Comment Request

AGENCY: Office of the Secretary, HHS.

In compliance with the requirement of section 3506(c)(2)(A) of the Paperwork Reduction Act of 1995, the Office of the Secretary (OS), Department of Health and Human Services, is publishing the following summary of a proposed information collection request for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

To obtain copies of the supporting statement and any related forms for the proposed paperwork collections referenced above, e-mail your request, including your address, phone number, OMB number, and OS document identifier, to Sherette.funncoleman@hhs.gov, or call the Reports Clearance Office on (202) 690-6162. Written comments and recommendations for the proposed information collections must be directed to the OS Paperwork Clearance Officer at the above e-mail address within 60-days.

Proposed Project: The Office of Adolescent Health (OAH) Teen Pregnancy Prevention Performance Measure Collection—OMB No. OS-0990-NEW—Office of Adolescent Health and the Administration for Children, Youth and Families.

Abstract: The Office of Adolescent Health (OAH) and the Administration for Children, Youth and Families (ACYF), under the U.S. Department of Health and Human Services (HHS), are funding a total of 107 grantees to conduct teen pregnancy prevention programs. Grantees are funded to either replicate evidence-based teen pregnancy prevention programs (75 OAH grantees) or to implement research and demonstration programs to test new and innovative approaches to teen pregnancy prevention (19 OAH grantees and 13 ACYF grantees). Grants are funded for 5 years at levels ranging from $400,000 to $4 million per year. Interventions for these different programs vary widely in terms of duration (from 1 day to 4 years), setting (schools, clinics, or community based settings), populations served (middle school students, high school students, parents of teens) and content (e.g., youth development programs or sex education programs). Funding requirements for the grantees included the collection and reporting of data for performance measurement. The performance measure collection is important to OAH and ACYF because it will provide the agency with data both to effectively monitor these programs, and to comply with accountability and Federal performance requirements for the 1993 Government Performance and Results Act (Pub. L. 103-62).

Estimated Annualized Burden Table
Forms (if necessary) | Type of respondent | Number of respondents | Number of responses per respondent | Average burden hours per response | Total burden hours
Perceived impact questions | Youth participating in programs | 100,000 | 1 | 5/60 | 8,333
Reporting form for reach | Grantee program staff | 107 | 2 | 4 | 856
Tier 1 A/B performance measure reporting form | Grantee program staff—Tier 1 A/B | 59 | 1 | 19 | 1,121
Tier 1 C/D and Tier 2/PREIS performance measure reporting form | Grantee program staff—Tier 1 C/D and Tier 2/PREIS | 48 | 1 | 21 | 1,008
Total |  |  |  |  | 11,318

Mary Forbes,
Office of the Secretary, Paperwork Reduction Act Clearance Officer.

[FR Doc. 2011-14271 Filed 6-8-11; 8:45 am]

BILLING CODE 4150-32-P